Executive Order 13614 of May 21, 2012

Providing an Order of Succession Within the Environmental Protection Agency

By the authority vested in me as President by the Constitution and the laws of the United States of America, including the Federal Vacancies Reform Act of 1998, as amended, 5 U.S.C. 3345 et seq. (the “Act”), it is hereby ordered that:

Section 1. Order of Succession. Subject to the provisions of section 2 of this order, and to the limitations set forth in the Act, the following officials of the Environmental Protection Agency, in the order listed, shall act as and perform the functions and duties of the office of the Administrator of the Environmental Protection Agency (Administrator) during any period in which the Administrator and the Deputy Administrator of the Environmental Protection Agency have died, resigned, or become otherwise unable to perform the functions and duties of the office of Administrator:

(a) General Counsel;

(b) Assistant Administrator, Office of Solid Waste;

(c) Assistant Administrator for Toxic Substances (also known as the Assistant Administrator for the Office of Chemical Safety and Pollution Prevention);

(d) Assistant Administrator for the Office of Air and Radiation;

(e) Assistant Administrator for the Office of Water;

(f) Assistant Administrator for the Office of Enforcement and Compliance Assurance;

(g) Chief Financial Officer;

(h) Assistant Administrator for the Office of Research and Development;

(i) Assistant Administrator for the Office of International and Tribal Affairs;

(j) Assistant Administrator for the Office of Administration and Resources Management;

(k) Assistant Administrator for the Office of Environmental Information;

(l) Regional Administrator, Region VIII; and

(m) Deputy Regional Administrator, Region II.

Sec. 2. Exceptions. (a) No individual who is serving in an office listed in section 1(a)-(m) of this order in an acting capacity shall, by virtue of so serving, act as Administrator pursuant to this order.

(b) No individual listed in section 1(a)-(m) of this order shall act as Administrator unless that individual is otherwise eligible to so serve under the Federal Vacancies Reform Act of 1998, as amended.

(c) Notwithstanding the provisions of this order, the President retains discretion, to the extent permitted by law, to depart from this order in designating an acting Administrator.

Sec. 3. Revocation. Executive Order 13261 of March 19, 2002 (Providing an Order of Succession in the Environmental Protection Agency and Amending Certain Orders on Succession) and Executive Order 13344 of July 7, 2004 (Amending Executive Order 13261 on the Order of Succession in the Environmental Protection Agency), are hereby revoked.

Sec. 4. Judicial Review. This order is not intended to, and does not, create any right or benefit, substantive or procedural, enforceable at law or in equity by any party against the United States, its departments, agencies, or entities, its officers, employees, or agents, or any other person.

THE WHITE HOUSE,

May 21, 2012.

[FR Doc. 2012-12883

Filed 5-23-12; 11:15 am]

Billing code 3295-F2-P